DEPARTMENT OF TRANSPORTATION

Federal Aviation Administration

14 CFR Part 39

[Docket No. 99-CE-34-AD; Amendment 39-11578; AD 2000-03-19]

RIN 2120-AA64

Airworthiness Directives; Industrie Aeronautiche e Meccaniche Model Piaggio P-180 Airplanes

AGENCY: Federal Aviation Administration, DOT.

ACTION: Notice of proposed rulemaking (NPRM); proposed removal of final rule.

SUMMARY: This document proposes to remove Airworthiness Directive (AD) 2000-03-19, which currently applies to all Industrie Aeronautiche e Meccaniche (I.A.M.) Model Piaggio P-180 airplanes that are equipped with pneumatic deicing boots. AD 2000-03-19 requires revising the Airplane Flight Manual (AFM) to include requirements for activating the airframe pneumatic deicing boots. Since FAA issued AD 2000-03-19, I.A.M. has shown the language currently included in the AFM and the airplane configuration are satisfactory to address the conditions identified in AD 2000-03-19. Therefore, this action proposes to remove AD 2000-03-19.

DATES: The Federal Aviation Administration (FAA) must receive any comments on this rule by November 24, 2000.

ADDRESSES: You may look at information related to this action at the Federal Aviation Administration (FAA), Central Region, Office of the Regional Counsel, Attention: Rules Docket No. 99-CE-34-AD, 901 Locust, Room 506, Kansas City, Missouri 64106, between 8 a.m. and 4 p.m., Monday through Friday, except holidays.

FOR FURTHER INFORMATION CONTACT: Larry Werth, Airworthiness Directive Coordinator, FAA, Small Airplane Directorate, 901 Locust, Room 301, Kansas City, Missouri 64106; telephone: (816) 329-4147; facsimile: (816) 329-4090.

SUPPLEMENTARY INFORMATION:

Comments Invited

How Do I Comment on This Proposed Removal?

We invite your comments on the proposed removal. You may send whatever written data, views, or arguments you choose. You need to include the docket number and send your comments in triplicate to the address named under the caption ADDRESSES. We will consider all comments received by the closing date specified above, before acting on the proposed removal. We may change the proposals contained in this action because of the comments received.

Are There Any Specific Portions of the Proposal I Should Pay Attention to?

The FAA specifically invites comments on the overall regulatory, economic, environmental, and energy aspects of the proposed removal that might call for a need to change the proposed removal. You may examine all comments we receive. We will file a report in the Rules Docket that summarizes each FAA contact with the public that concerns the substantive parts of this proposal.

The FAA is reexamining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How Can I Be Sure FAA Receives My Comment?

If you want us to acknowledge the receipt of your comments, you must include a self-addressed, stamped postcard. On the postcard, write “Comments to Docket No. 99-CE-34-AD.” We will date stamp and mail the postcard back to you.

Discussion

Has FAA Taken Any Action to This Point?

Reports of in-flight incidents and an accident that occurred in icing conditions where the airframe pneumatic deicing boots were not activated caused FAA to issue AD 2000-03-19, Amendment 39-11578 (65 FR 7717, February 16, 2000). This AD currently requires revising the Airplane Flight Manual (AFM) to include requirements for activating the airframe pneumatic deicing boots on all I.A.M. Model Piaggio P-180 airplanes that are equipped with pneumatic deicing boots.

The actions of AD 2000-03-19 are intended to assure that flightcrews have the information necessary to activate the pneumatic wing and tail deicing boots at the first signs of ice build-up. Without this information, flightcrews could experience reduced control of the aircraft because of adverse aerodynamic effects of ice adhering to the airplane before the first deicing cycle.

Events Leading to This Proposed Action

What Events Have Occurred To Initiate This Proposed Action?

I.A.M. believes the present wording within the AFM and the configuration of the airplane deice system provides for safe operation of the affected airplanes. Therefore, I.A.M. requests FAA remove the final rule because the requirements are redundant. The FAA has since evaluated all information related to the subject matter of AD 2000-03-19 and has determined the actions included in AD 2000-03-19 are redundant and not necessary.

The FAA's Determination and Provisions of This Proposed Action

What Has FAA Decided?

Based on the above information, FAA has determined there is no need for AD 2000-03-19 and that it should be removed.

What Does This Action Propose?

This action proposes to remove AD 2000-03-19. Removal of AD 2000-03-19 would constitute a final action. This removal would not commit the agency to any course of action in the future.

Regulatory Impact

Does This AD Involve a Significant Rule or Regulatory Action?

Since this proposed action would only remove an AD, it is neither a proposed AD nor a final AD and, therefore, is not covered under Executive Order 12866, the Regulatory Flexibility Act, or DOT Regulatory Policies and Procedures (44 FR 11034, February 26, 1979).

List of Subjects in 14 CFR Part 39

Air transportation, Aircraft, Aviation safety, Safety.

The Proposed Removal

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing AD 2000-03-19, Amendment 39-11578, published in the Federal Register on February 16, 2000 (65 FR 7717).

Issued in Kansas City, Missouri, on October 10, 2000.
Marvin R. Nuss,
Acting Manager, Small Airplane Directorate, Aircraft Certification Service.

[FR Doc. 00-26562 Filed 10-18-00; 8:45 am]

BILLING CODE 4910-13-P